FEDERAL EMERGENCY MANAGEMENT AGENCY

Agency Information Collection Activities: Proposed Collection; Comment Request

ACTION: Notice and request for comments.

SUMMARY: The Federal Emergency Management Agency (FEMA), as part of its continuing effort to reduce paperwork and respondent burden, invites the general public and other Federal agencies to take this opportunity to comment on a proposed new collection of information. This notice seeks comments concerning the creation and use of evaluation forms for arbitrators and claimants. The request is submitted under the emergency processing procedures in Office of Management and Budget (OMB) regulation 5 CFR 1320.13. FEMA is requesting that this collection of information be approved by July 7, 2002. The approval will authorize FEMA to use the collection through January 31, 2003..

FEMA plans to follow this emergency request with a request for a 3-year approval. The request will be processed under OMB's normal clearance procedures in accordance with the provisions of OMB regulation 5 CFR 1320.10. To help us with the timely processing of the emergency and normal clearance submissions to OMB, FEMA invites the general public to comment on the proposed collection of information. This notice and request for comments is in accordance with the provisions of the Paperwork Reduction Act of 1995 (44 U.S.C. 3506(c)(2)(A)).

SUPPLEMENTARY INFORMATION: The Cerro Grande Fire Assistance Act is authorized under Public Law 106-246, Division C, and is implemented by FEMA regulation 44 CFR 295.46. The Act establishes the Cerro Grande Fire Claim Program to provide assistance to claimants who were adversely impacted when the National Park Service's prescribed burn flared out of control at Bandolier National Monument, New Mexico, on May 4, 2000. This collection of information surveys claimants and arbitrators who participate in the Agency's Alternative Dispute Resolution process. The survey questionnaires provide feedback to the Agency on customer satisfaction and for program quality improvement purposes. It will assist us in complying with goals and objectives of the Government Performance Results Act (GPRA).

Collection of Information

Title: Cerro Grande Arbitrator Questionnaire and Cerro Grande Claimant Questionnaire.

Type of Information Collection: New.

Abstract: The survey questionnaires will be used to gather information on how satisfied participants are with the arbitration currently in place. The respective arbitrator and claimant will be asked to complete the survey questionnaire and submit it to FEMA's Alternative Dispute Resolution Office after arbitration. This is strictly voluntary. The information will be collected over the course of the year and submitted to the Office of General Counsel in an End of Year Report. The information will also be formulated to answer specific questions regarding the satisfaction with the program. The information will also provide ways to improve the program so that it continues to provide a fair resolution to the claimant's problems and that its processes are the least burdensome and the most time- and cost-effective to the claimant, the arbitrator, and to the Federal Government.

Affected Public: Individuals and households; business or other for-profit; not-for-profit institutions; farms; Federal government; and State, local or tribal governments.

Estimated Total Annual Burden Hours: 205 hours.

FEMA forms | Number of respondents | Frequency of response | Hours per response | Annual burden hours
| (A) | (B) | (C) | (A × B-× C)
Arbitrators | 420 | *1 | .25 | 105
Claimants | 400 | 1 | .25 | 100
Total | 428 |  | .25 | 205

Estimated Cost: The total estimated burden hours is 205 hours based on 428 respondents surveyed once (arbitrators' frequency of response refers to one response per case/arbitration). Arbitrators hourly rate is estimated at $150, or $38 per arbitration. The estimated total annual cost for arbitrators is $15,960. The cost for claimants is estimated at $13.42 per hour or $3.50 per response. The estimated total annual cost for claimants is $1,400.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, Chief, Records Management Section, Program Services and Systems Branch, Facilities Management and Services Division, Administration and Resource Planning Directorate, Federal Emergency Management Agency, 500 C Street, SW, Room 316, Washington, DC 20472.

FOR FURTHER INFORMATION CONTACT: Contact Cindy Mazur, ADR Specialist, Federal Emergency Management Agency, 202/646-4094, for additional information. You may contact Ms. Anderson for copies of the proposed collection of information at telephone number (202) 646-2625 or facsimile number (202) 646-3347 or e-mail: muriel.anderson@fema.gov.

Dated: June 7, 2002.
Muriel B. Anderson,
Acting Branch Chief, Program Services and Systems Branch, Facilities and Services Management Division, Administration and Resource Planning Directorate.

[FR Doc. 02-15051 Filed 6-13-02; 8:45 am]

BILLING CODE 6718-01-P